ENVIRONMENTAL PROTECTION AGENCY

40 CFR Part 35

[EPA-HQ-SFUND-2009-0617; FRL-8953-8]

RIN 2050-AG53

State and Local Assistance; Technical Correction

AGENCY: Environmental Protection Agency (EPA).

ACTION: Final rule; Technical Correction.

SUMMARY: On June 16, 2009, regulations to include State Response Programs and Tribal Response Programs under Section 128(a) of the Comprehensive Environmental Response, Compensation and Liability Act (CERCLA) as among the Environmental Program Grants eligible for inclusion in a Performance Partnership Grant (PPG) were published. Those final rules included technical errors which this action corrects.

DATES: This rule is effective on September 8, 2009.

ADDRESSES: The mailing address of the Office of Brownfields and Land Revitalization, Office of Solid Waste and Emergency Response, is U.S. Environmental Protection Agency, 1200 Pennsylvania Avenue, NW., MC 5105T, Washington, DC 20460.

FOR FURTHER INFORMATION CONTACT: Virginia Fornillo, Office of Solid Waste and Emergency Response, Office of Brownfields and Land Revitalization, at (202) 566-2770 (fornillo.virginia@epa.gov), U.S. Environmental Protection Agency, 1200 Pennsylvania Avenue, NW., Washington, DC 20460-0002, Mail Code 5105T.

SUPPLEMENTARY INFORMATION:

I. Background

EPA's regulations implementing Performance Partnership Grants (PPGs) are found at 40 CFR 35.101, 40 CFR 35.130-35.138, 40 CFR 35.501 and 40 CFR 35.530-35.538. On June 16, 2009 (74 FR 28443) EPA published in the Federal Register a final rule that added State Response Programs Section CERCLA 128(a) under 40 CFR part 35 subpart A and Tribal Response Programs Section CERCLA 128(a) under 40 CFR part 35, subpart B as a PPG eligible grant programs. The rule also adds State Response Program and Tribal Response Program specific provisions to 40 CFR part 35, subparts A and B. This document corrects typographical errors in references contained in 40 CFR 35.133. Specifically, in 40 CFR 35.133, references are erroneously made to 40 CFR 35.100(b) rather than the correct citation, 40 CFR 35.101(a).

II. Administrative Procedure Act

The Administrative Procedure Act provides that matters relating to agency grants are not subject to prior notice and opportunity for comment, 5 U.S.C. 553(a)(2). Therefore, EPA is issuing these technical corrections as final rules.

III. Statutory and Executive Order Reviews

This final rule corrects a technical error and does not otherwise change the requirements in the final rule. As a technical correction, this action is not subject to the statutory and Executive Order review requirements. For information about the statutory and Executive Order review requirements as they related to the final rule, see Section III in the Federal Register of June 16, 2009.

IV. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to the publication of this final rule in the Federal Register. This final rule is not a “major rule” as defined by 5 U.S.C. 804(2).

List of Subjects in 40 CFR Part 35

Environmental protection, Air pollution control, Grant programs—environmental protection, Grant programs—Indians, Indians, Intergovernmental relations, Reporting and Recordkeeping requirements.

Dated: August 31, 2009.
Mathy Stanislaus,
Assistant Administrator, Office of Solid Waste and Emergency Response.

EPA amends 40 CFR Part 35 as follows:

PART 35—STATE AND LOCAL ASSISTANCE

Subpart A—[Amended]

1. The authority citation for part 35, subpart A continues to read as follows:

Authority: 42 U.S.C. 7401 et seq.; 33 U.S.C. 1251 et seq.; 42 U.S.C. 300f et seq.; 42 U.S.C. 6901 et seq.; 7 U.S.C. 136 et seq.; 15 U.S.C. 2601 et seq.; 42 U.S.C. 13101 et seq.; Pub. L. 104-134, 110 Stat. 1321, 1321-299 (1996); Pub. L. 105-65, 111 Stat. 1344, 1373 (1997); 5. 105-276, 112 Stat. 2461, 2499 (1988).

2. Section 35.133 is amended by revising paragraph (a) to read as follows:

§ 35.133 Programs eligible for inclusion.

(a) Eligible programs. Except as provided in paragraph (b) of this section, the environmental programs eligible, in accordance with appropriation acts, for inclusion in a Performance Partnership Grant are listed in § 35.101(a)(2) through (17) and (20). (Funds available from the section 205(g) State Administration Grants program (§ 35.101(a)(18)) and the Water Quality Management Planning Grant program (§ 35.101(a)(19)) and funds awarded to States under State Response Program Grants (§ 35.101(a)(20)) to capitalize a revolving loan fund for Brownfield remediation or purchase insurance or develop a risk sharing pool, an indemnity pool, or insurance mechanism to provide financing for response actions may not be included in Performance Partnership Grants.)

* * * * *

[FR Doc. E9-21549 Filed 9-4-09; 8:45 am]

BILLING CODE 6560-50-P